DEPARTMENT OF HEALTH AND HUMAN SERVICES

National Institutes of Health

Office of the Director, National Institutes of Health; Notice of Closed Meeting

Notice is hereby given of a meeting of the Advisory Committee to the Director, National Institutes of Health (NIH), Orientation Work Group. The meeting will be closed to the public.

The NIH Director's Pioneer Award and New Innovator Award programs are part of the NIH Common Fund and support exceptionally creative scientists who take highly innovative, potentially high-impact approaches to major challenges in biomedical or behavioral research. The members of the Advisory Committee to the Director, NIH will be participating in an orientation work group meeting for the purpose of receiving instructions on their role and responsibility in the review of these applications requesting NIH research support. Members will be participating in the final review of both the NIH Director's Pioneer Award and New Innovator Award grant reviews during the June 9-10, 2011 meeting of the Advisory Committee to the Director, NIH.

The Orientation Work Group discussions could disclose confidential trade secrets or commercial property such as patentable materials, and personal information concerning individuals associated with the grant applications, the disclosure of which would constitute a clearly unwarranted invasion of personal privacy.

Name of Work Group: Advisory Committee to the Director, NIH, Orientation Work Group.

Date: May 26, 2011.

Closed: 3 p.m. to 4 p.m.

Agenda: To receive instruction and guidance for the review of the NIH Director's Pioneer Award and New Innovator Award programs.

Place: National Institutes of Health, Building 1, Room 103, One Center Drive, Bethesda, MD 20892, (Teleconference).

Contact Person: Gretchen S. Wood, Special Assistant to the Associate Director for OD Coordination, Immediate Office of the Director, National Institutes of Health, One Center Drive, Building 1, Room 103, Bethesda, MD 20892, woodgs@od.nih.gov.

Dated: April 26, 2011.
Jennifer S. Spaeth,
Director, Office of Federal Advisory Committee Policy.

[FR Doc. 2011-10667 Filed 5-2-11; 8:45 am]

BILLING CODE 4140-01-P